DEPARTMENT OF TRANSPORTATION

National Highway Traffic Safety Administration

[Docket No. NHTSA-2015-0029; Notice 1]

Mercedes-Benz USA, LLC, Receipt of Petition for Decision of Inconsequential Noncompliance

AGENCY: National Highway Traffic Safety Administration (NHTSA), Department of Transportation (DOT).

ACTION: Receipt of petition.

SUMMARY: Mercedes-Benz USA, LLC, (MBUSA) on behalf of itself and its parent company Daimler AG (DAG), collectively referred to as “Mercedes” has determined that certain model year (MY) 2015 Mercedes-Benz C-Class (205 Platform) passenger vehicles do not fully comply with paragraph S10.18.4 of Federal Motor Vehicle Safety Standard (FMVSS) No. 108, Lamps, Reflective Devices, and Associated Equipment. Mercedes has filed an appropriate report dated February 9, 2015, pursuant to 49 CFR part 573, Defect and Noncompliance Responsibility and Reports.

DATES: The closing date for comments on the petition is May 18, 2015.

ADDRESSES: Interested persons are invited to submit written data, views, and arguments on this petition. Comments must refer to the docket and notice number cited at the beginning of this notice and submitted by any of the following methods:

• Mail: Send comments by mail addressed to: U.S. Department of Transportation, Docket Operations, M-30, West Building Ground Floor, Room W12-140, 1200 New Jersey Avenue SE., Washington, DC 20590.

• Hand Deliver: Deliver comments by hand to: U.S. Department of Transportation, Docket Operations, M-30, West Building Ground Floor, Room W12-140, 1200 New Jersey Avenue SE., Washington, DC 20590. The Docket Section is open on weekdays from 10 a.m. to 5 p.m. except Federal Holidays.

• Electronically: Submit comments electronically by: logging onto the Federal Docket Management System (FDMS) Web site at http://www.regulations.gov/. Follow the online instructions for submitting comments. Comments may also be faxed to (202) 493-2251.

Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided.

Documents submitted to the docket may be viewed by anyone at the address and times given above. The documents may also be viewed on the Internet at http://www.regulations.gov by following the online instructions for accessing the dockets. DOT's complete Privacy Act Statement is available for review in the Federal Register published on April 11, 2000, (65 FR 19477-78).

The petition, supporting materials, and all comments received before the close of business on the closing date indicated below will be filed and will be considered. All comments and supporting materials received after the closing date will also be filed and will be considered to the extent possible. When the petition is granted or denied, notice of the decision will be published in the Federal Register pursuant to the authority indicated below.

SUPPLEMENTARY INFORMATION:

I. Mercedes' Petition: Pursuant to 49 U.S.C. 30118(d) and 30120(h) (see implementing rule at 49 CFR part 556), Mercedes submitted a petition for an exemption from the notification and remedy requirements of 49 U.S.C. Chapter 301 on the basis that this noncompliance is inconsequential to motor vehicle safety.

This notice of receipt of MBUSA's petition is published under 49 U.S.C. 30118 and 30120 and does not represent any agency decision or other exercise of judgment concerning the merits of the petition.

II. Vehicles Involved: Affected are approximately 9,137 MY 2015 Mercedes-Benz C-Class (205 Platform) passenger cars manufactured between June 18, 2014 through September 5, 2015 at Mercedes' Tuscaloosa, Alabama plant.

III. Noncompliance: Mercedes explains that the subject vehicles were manufactured with horizontal adjustment-visually aimed headlamps that have a lower beam and a horizontal adjustment mechanism that was not made inoperative at the factory. Specifically, the horizontal adjustment screw was not properly sealed off with non-removable sealing caps as necessary to fully meet the requirements of paragraph S10.18.4 of FMVSS No. 108.

Rule Text: Paragraph S10.18.4 of FMVSS No. 108 requires in pertinent part:

S10.18.4 Horizontal adjustment-visually aimed headlamp. A visually/optically amiable headlamp that has a lower beam must not have a horizontal adjustment mechanism unless such mechanism meets the requirements of this standard for on vehicle aiming as specified in S10.18.8.

V. Summary of MBUSA's Analyses: Mercedes stated its belief that the subject noncompliance is inconsequential to motor vehicle safety for the following reasons:

(A) Mercedes believes that new manufacturing methods, including the use of optical image processing to adjust the horizontal and the vertical illumination levels of headlamps in addition to the reduction in assembly tolerances for headlamp assemblies has resulted in optimal headlamp adjustments on vehicles leaving their manufacturing plants. As a result, on-vehicle aiming devices are no longer common in the industry. Mercedes believes that this has led to the elimination of the need for horizontal headlamp adjustment on in-use vehicles. Regarding the subject vehicles, Mercedes says there is generally no need for customers or repair shops to adjust the horizontal aim of headlamps.

(B) Mercedes states that they have only received five customer complaints in the United States, relating to alleged headlamp mis-aiming in the subject vehicles. None of the complaints relate to horizontal mis-aiming of the headlamps. In all instances customers brought their vehicles in for service by Mercedes repair shops, who know how to perform a headlamp readjustment properly, without using the horizontal adjustment screw.

(C) Mercedes' says they provide service instructions to U.S. repair shops that specify that horizontal headlamp adjustment is not permitted and do not even mention that a horizontal headlamp adjustment screw even exists. Similarly, the vehicle owner's manual does not include information about performing headlamp illumination adjustment. Thus, since the horizontal headlamp screw's existence is not mentioned in any sales or service instructions or manuals, use of the screw by the customer or repair facilities would be extremely unlikely.

(D) Mercedes also stated that even if the screw were to be used, such adjustment would result in only minimal differences in illumination levels compared to the original levels because it provides only a minimal range of adjustment. Mercedes elaborated by stating that when the horizontal adjustment screw is turned to the far left or far right end-position, only a few measuring points are slightly above or below the FMVSS No. 108 required levels. Specifically, when the horizontal adjustment screw is turned to the maximum left end-position (−2.8°), only 4 out of 24 measuring points are above (3) or under (1) the required illumination levels. And when the horizontal adjustment screw is turned to the maximum right end-position (+3.2°), only 2 out of 24 measuring points are under the required illumination levels. Thus, the difference between these worst-case levels and the required minimum or maximum levels are very small. According to Mercedes' headlamp development engineers, a difference of 300 cd [candela] is unlikely to be noticed by a driver and would not affect oncoming traffic or visibility in any material way. In addition, the subject headlamps rely on a reflection-based system which Mercedes' believes leads to less glare then projection-based system.

Mercedes has additionally informed NHTSA that it has corrected the subject noncompliance.

In summation, Mercedes believes that the described noncompliance of the subject vehicles is inconsequential to motor vehicle safety, and that its petition, to exempt Mercedes from providing recall notification of noncompliance as required by 49 U.S.C. 30118 and remedying the recall noncompliance as required by 49 U.S.C. 30120 should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject vehicles that Mercedes no longer controlled at the time it determined that the noncompliance existed. However, any decision on this petition does not relieve vehicle distributors and dealers of the prohibitions on the sale, offer for sale, or introduction or delivery for introduction into interstate commerce of the noncompliant vehicles under their control after Mercedes notified them that the subject noncompliance existed.

Authority: (49 U.S.C. 30118, 30120: delegations of authority at 49 CFR 1.95 and 501.8).

Jeffrey Giuseppe,
Director, Office of Vehicle Safety Compliance.

[FR Doc. 2015-08691 Filed 4-15-15; 8:45 am]

BILLING CODE 4910-59-P